DEPARTMENT OF COMMERCE

National Oceanic and Atmospheric Administration

[I.D. 090506E]

North Pacific Fishery Management Council; Public Meeting

AGENCY: National Marine Fisheries Service (NMFS), National Oceanic and Atmospheric Administration (NOAA), Commerce.

ACTION: Notice of a public meeting.

SUMMARY: The North Pacific Fishery Management Council's (Council) Aleutian Island Ecosystem Team will meet in Seattle, WA.

DATES: The meeting will be held on Tuesday, September 26, 2006, from 8:30 a.m. to 4:30 p.m. and Wednesday, September 27, 2006, from 8:30 a.m. to 1 p.m.

ADDRESSES: The meeting will be held at the Alaska Fisheries Science Center, 7600 Sand Point Way NE. Bldg 9, Room 2039, Seattle, WA 98115.

Council address: North Pacific Fishery Management Council, 605 W. 4th Ave., Suite 306, Anchorage, AK 99501-2252.

FOR FURTHER INFORMATION CONTACT: Diana Evans, Council staff, telephone: (907) 271-2809.

SUPPLEMENTARY INFORMATION: The agenda will be as follows: Develop a plan for producing on Aleutian Island Fishery Ecosystem Plan, to review existing compilation materials, and to determine work assignments.

Special Accommodations

This meeting is physically accessible to people with disabilities. Requests for sign language interpretation or other auxiliary aids should be directed to Gail Bendixen at (907) 271-2809 at least 7 working days prior to the meeting date.

Dated: September 6, 2006.
Tracey L. Thompson,
Acting Director, Office of Sustainable Fisheries, National Marine Fisheries Service.

[FR Doc. E6-14982 Filed 9-8-06; 8:45 am]

BILLING CODE 3510-22-S